DEPARTMENT OF HOMELAND SECURITY

[Docket No. DHS-2012-0051]

Critical Infrastructure Partnership Advisory Council (CIPAC)

AGENCY: National Protection and Programs Directorate, DHS.

ACTION: Notice of CIPAC meeting.

SUMMARY: The Critical Infrastructure Partnership Advisory Council (CIPAC) Plenary Meeting will be held on Wednesday, October 3, 2012, at the Walter E. Washington Convention Center, 801 Mount Vernon Place NW., Washington, DC 20001. The meeting will be open to the public.

DATES: The CIPAC Plenary Meeting will be held on Wednesday, October 3, 2012 from 8:30 a.m. to 4 p.m. Registration will begin at 7:30 a.m. For additional information, please consult the CIPAC Web site, http://www.dhs.gov/cipac, or contact the CIPAC Secretariat by phone at (703)235-3999 or by email at CIPAC@hq.dhs.gov.

ADDRESSES: The meeting will be held at the Walter E. Washington Convention Center, 801 Mount Vernon Place NW., Washington, DC 20001.

While this meeting is open to the public, participation in the CIPAC deliberations is limited to committee members, Department of Homeland Security officials, and persons invited to attend the meeting for special presentations.

Immediately following the committee member deliberation and discussion period, there will be a limited time period for public comment. This public comment period is designed for substantive commentary that must pertain only to matters involving critical infrastructure protection and resiliency. Off-topic questions or comments will not be permitted or discussed. Please note that the public comment period may begin prior to 3 p.m. if the committee has completed its business.

To accommodate as many speakers as possible, oral presentations will be limited to three (3) minutes per speaker, with no more than 30 minutes for all speakers. Parties interested in presenting must register in person at the meeting location. Oral presentations will be permitted on a first-come, first-serve basis, and given based upon the order of registration; all registrants may not be able to speak if time does not permit.

Written comments are welcome at any time prior to or following the meeting. Written comments may be sent to Renee Murphy, National Protection and Programs Directorate, Department of Homeland Security, 245 Murray Lane, SW., Mail Stop 0607, Arlington, VA 20598-0607. For consideration in the CIPAC deliberations, written comments must be received by Renee Murphy by no later than October 2, 2012, identified by “DHS-2012-0051” and must be submitted by one of the following methods:

• Federal eRulemaking Portal: http://www.regulations.gov. Follow the instructions for submitting written comments.

• Email: CIPAC@hq.dhs.gov. Include the docket number in the subject line of the message.

• Fax: (703) 603-5098.

• Mail: Renee Murphy, National Protection and Programs Directorate, Department of Homeland Security, 245 Murray Lane, SW., Mail Stop 0607, Arlington, VA 20598-0607.

Instructions: All written submissions received must include the words “Department of Homeland Security” and the docket number for this action. Written comments received will be posted without alteration at http://www.regulations.gov, including any personal information provided.

Docket: For access to the docket to read background documents or comments received by the CIPAC, go to http://www.regulations.gov.

FOR FURTHER INFORMATION CONTACT: Renee Murphy, Section Chief, Sector Outreach and Programs Division, Office of Infrastructure Protection, National Protection and Programs Directorate, Department of Homeland Security, 245 Murray Lane SW., Mail Stop 0607, Arlington, VA 20598-0607, telephone (703) 235-3999 or via email at CIPAC@hq.dhs.gov.

SUPPLEMENTARY INFORMATION: CIPAC represents a partnership between the Federal Government and critical infrastructure owners and operators and provides a forum in which they can engage in a broad spectrum of activities to support and coordinate critical infrastructure protection.

The October 3, 2012 meeting will include topic-specific discussions focused on partnership efforts to enhance critical infrastructure resilience. Topics such as Physical and Cyber Critical Infrastructure Protection, Industrial Control Systems Security, Opportunities in Mitigating Aging U.S Infrastructure, Social Media's Role in Critical Infrastructure, and Critical Infrastructure Program Updates will be discussed.

Information on Services for Individuals With Disabilities

For information on facilities or services for individuals with disabilities or to request special assistance at the meeting, contact the CIPAC Secretariat at (703) 235-3999 as soon as possible.

Dated: September 20, 2012.
Larry May,
Designated Federal Officer for the Critical Infrastructure Partnership Advisory Council.

[FR Doc. 2012-23666 Filed 9-25-12; 8:45 am]

BILLING CODE 9910-9P-P